NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 74 FR 60300, and one comment was received. NSF is forwarding the proposed renewal submission to the Office of Management and Budget (OMB) for clearance simultaneously with the publication of this second notice. The full submission may be found at: http://www.reginfo.gov/public/do/PRAMain. Comments regarding (a) whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send email to splimpto@nsf.gov. Comments regarding this information collection are best assured of having their full effect if received within 30 days of this notification. Copies of the submission(s) may be obtained by calling 703-292-7556.

FOR FURTHER INFORMATION CONTACT: Suzanne H. Plimpton at (703) 292-7556 or send email to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

SUPPLEMENTARY INFORMATION: On November 20, 2009, we published in the Federal Register (74 FR 60300) a 60-day notice of our intent to request renewal of this information collection authority from OMB. In that notice, we solicited public comments for 60 days ending January 19, 2009. We received one comment regarding this notice.

Comment: One comment was received from Roger Clegg, President and General Counsel, Center for Equal Opportunity: “The ADVANCE Program is described as “address[ing] the underrepresentation and inadequate advancement of women,” and “gender equity outcomes,” for STEM faculty. We hope that the Program does not contemplate the use of quotas, numerical goals, or other discrimination or preferences as ways to address underrepresentation (a dubious term) or gender equity (likewise dubious). Such discrimination and preference is presumptively unconstitutional when engaged in by government, including federal government agencies (see Mississippi University for Women v. Hogan, 458 U.S. 718 (1982) (gender discrimination requires an “exceedingly persuasive justification”), and faculty discrimination on the basis of sex is illegal under Title VII of the 1964 Civil Rights Act, 42 U.S.C. 2000e et seq.”

Response: We responded via email on November 30, 2009: Thank you for your comment in response to the Federal Register notice published November 20, 2009 “National Science Foundation Agency Information Collection Activities: Proposed Collection, Comment Request.” The NSF ADVANCE program does not use quotas, numerical goals, or other discrimination or preferences. Further information on the ADVANCE program is available at: http://www.nsf.gov/advance.

Title of Collection: Quantitative Evaluation of the ADVANCE Program.

OMB Control No.: 3145-NEW.

Abstract: The ADVANCE Program was established by the National Science Foundation in 2001 to address the underrepresentation and inadequate advancement of women on STEM (Science, Technology, Engineering, and Mathematics) faculties at postsecondary institutions. The evaluation being conducted by Westat focuses on the outcomes of two ADVANCE program components: (a) The first two (2001 and 2003) cohorts of Institutional Transformation (IT) awardees, and (b) both (2002 and 2004) cohorts of individuals receiving ADVANCE Fellows awards. The study will rely on a thorough review of project documents and relevant literature; a survey (facilitated online via WebEx) and an outcome indicator data form (distributed and completed electronically) for the 19 IT awardee institutions; and a mail survey, with telephone followup as needed, of all 59 former Fellows.

In addition, the study will use data from the 2001 and 2008 administrations of the Survey of Doctorate Recipients (SDR) for comparison purposes.

The evaluation of the IT component has two primary goals: To compare selected gender equity outcomes for STEM faculty at the 19 IT Cohorts 1 and 2 institutions and at other similar U.S. four-year colleges and universities that have not subsequently received ADVANCE IT awards, and to develop innovative institutional-level measures of changes in gender equity climate and practices that can be applied to evaluating the outcomes of the IT award. The primary goal of the Fellows evaluation is to compare the career trajectories of ADVANCE Fellows with those of similar individuals who were not awarded these fellowships.

Respondents: Faculty and staff at institutions of higher education and individuals holding doctoral degrees in STEM fields awarded an NSF ADVANCE Fellowship.

Estimated Number of Annual Respondents: 139.

Burden on the Public: 1,859 hours.

Dated: January 14, 2010.
Suzanne H. Plimpton,
Reports Clearance Officer, National Science Foundation.

[FR Doc. 2010-1004 Filed 1-20-10; 8:45 am]

BILLING CODE 7555-01-P